DEPARTMENT OF COMMERCE

Economic Development Administration

[991215339-4347-15]

Solicitation of Proposals for National Technical Assistance

AGENCY: Economic Development Administration (EDA), Department of Commerce (DOC).

ACTION: Notice and request for proposals.

SUMMARY: The Economic Development Administration (EDA) is soliciting proposals for the National Technical Assistance Program for Fiscal Year (FY) 2006. This notice also announces general policies and application procedures for grant-based technical assistance investments that aim to increase prosperity by advancing comprehensive, entrepreneurial, and innovation-based economic development efforts. The mission of EDA is to lead the Federal economic development agenda by promoting innovation and competitiveness, preparing American regions for growth and success in the worldwide economy. Through the National Technical Assistance (NTA) program, EDA will work towards fulfilling its mission by funding technical assistance projects to promote competitiveness and innovation in urban and rural regions throughout the United States and its territories. By working in conjunction with its research partners, EDA will help states, local governments, and community based organizations to achieve their highest economic potential.

DATES: Proposals for funding under this program must be received by the EDA representative listed in Section VII.B. of this competitive solicitation no later than May 31, 2005 at 4 p.m. (EDT). Proposals received after 4 p.m. (EDT) on May 31, 2005, will not be considered for funding. By June 15, 2005, EDA will notify proponents whether they will be given further funding consideration and will invite successful proponents to submit a formal application.

ADDRESSES: National Technical Assistance proposals may be e-mailed to jmcnamee@eda.doc.gov.

National Technical Assistance proposals may be hand-delivered to: Dr. John J. McNamee, U.S. Department of Commerce, Economic Development Administration, Room 1874, 1401 Constitution Avenue, NW., Washington, DC 20230; or

National Technical Assistance proposals may be mailed to: Dr. John J. McNamee, U.S. Department of Commerce, Economic Development Administration, Room 7816, 1401 Constitution Avenue, NW., Washington, DC 20230, Phone: 202-482-3566; Fax 202-501-4828.

FOR FURTHER INFORMATION CONTACT: For additional information or for a paper copy of the full Federal Funding Opportunity (FFO) announcement for this request for proposals, contact the appropriate EDA officer listed above. The text of the full FFO announcement is available through Grants.gov at http://www.grants.gov. EDA's Web site contains additional information on its program at

http://www.eda.gov.

SUPPLEMENTARY INFORMATION: Electronic Access: The full FFO announcement for the FY 2005 Economic Development Assistance Programs competition is available through Grants.gov at http://www.grants.gov.

Funding Availability: EDA may use funds appropriated under H.R. 4814 for the NTA Program. Funds in the amount of $1,122,000 are available for the NTA Program for FY 2005. These funds are available until expended.

Statutory Authority: The authority for programs listed below is the Public Works and Economic Development Act of 1965 (PWEDA), as amended (Pub. L. 89-136, 42 U.S.C. 3121, et seq.), and as most recently amended by the Economic Development Administration Reauthorization Act of 2004 (Public Law 108-373).

CFDA: 11.303 Economic Development—Technical Assistance.

Eligibility: Eligible applicants for and eligible recipients of EDA financial assistance include Economic Development Districts; Indian tribes or consortia of Indian tribes; states; cities or other political subdivisions; institutions of higher education or consortia of institutions of higher education; public or private nonprofit organizations or associations acting in cooperation with officials of a political subdivision of a state.

Cost Sharing Requirements: Generally, the amount of the EDA grant may not exceed 50 percent of the cost of the project, unless the project meets the requirements in 41 U.S.C. 3144. Projects meeting the criteria may receive an additional amount that shall not exceed 30 percent, based on the relative needs of the area in which the project will be located. See 42 U.S.C. 3144. While cash contributions are encouraged, in-kind contributions, fairly evaluated by EDA, may include assumptions of debt and contributions of space, equipment, and services and may provide the non-Federal share of the project cost. 42 U.S.C. 3144. In-kind contributions must be eligible project costs and meet applicable Federal cost principles and uniform administrative requirements. Id. EDA may supplement the costs of a project up to and including 100 percent of such project costs where the applicant is able to demonstrate that the project meets the requirements of 42 U.S.C. 3144(c). Potential applicants should contact the appropriate EDA office to make this determination.

Intergovernmental Review: Applications under this program are not subject to Executive Order 12372, “Intergovernmental Review of Federal Programs.”

Evaluation and Selection Procedures and Criteria

A. Evaluation and Selection Criteria/Procedures

To apply for an award under this request, an eligible applicant must submit a proposal to EDA during the specified timeframe and in the manner provided in Section VII of the FFO. Proposals that do not meet all items required as set forth in the FFO will be considered non-responsive. Non-responsive proposals will not be considered by the review panel. Proposals that meet all the requirements will be evaluated by a review panel comprised of at least three members, all of whom will be full-time Federal employees. The panel evaluates the proposals and rates and ranks them using the following criteria of approximate equal weight:

1. Relative severity of the economic problem of the area; 13 CFR 304.2(a)(1).

2. Quality and Degree of conformance of the scope of work; 13 CFR 304.2(a)(2).

3. Merits of the activities—13 CFR 304.2(a)(3) As further defined by the Investment Policy Guidelines provided below;

4. Ability to carry out the proposed activities successfully—13 CFR 304.2(a)(4).

5. Cost to the Federal Government.

B. Supplemental Evaluation Criteria: Investment Policy Guidelines

The mission of EDA is to lead the Federal economic development agenda by promoting innovation and competitiveness, preparing American regions for growth and success in the worldwide economy.

All potential EDA investments will be analyzed using the following five Investment Policy Guidelines, which constitute supplemental evaluation criteria of approximate equal weight and which further define the criteria provided at 13 CFR 304.2(a)(3).

1. Be market-based and results driven. An investment will capitalize on a region's competitive strengths and will positively move a regional economic indicator measured on EDA's Balanced Scorecard, such as: an increased number of higher-skill, higher-wage jobs; increased tax revenue; or increased private sector investment.

2. Have strong organizational leadership. An investment will have strong leadership, relevant project management experience, and a significant commitment of human resources talent to ensure a project's successful execution.

3. Advance productivity, innovation, and entrepreneurship. An investment will embrace the principles of entrepreneurship, enhance regional clusters, and leverage and link technology innovators and local universities to the private sector to create the conditions for greater productivity, innovation, and job creation.

4. Look beyond the immediate economic horizon, anticipate economic changes, and diversify the local and regional economy. An investment will be part of an overarching, long term comprehensive economic development strategy that enhances a region's success in achieving a rising standard of living by supporting existing industry clusters, developing emerging new clusters, or attracting new regional economic drivers.

5. Demonstrate a high degree of commitment by exhibiting:

• High levels of local government or non-profit matching funds and private sector leverage.

• Clear and unified leadership and support by local elected officials.

• Strong cooperation between the business sector, relevant regional partners and local, State and Federal governments.

Selection Factors: The Assistant Secretary of Commerce for Economic Development is the Selecting Official, and will in the normal course accept the ranking of the proposals recommended by the review panel. However, the Assistant Secretary may not make any selection, or he may substitute one of the lower rated proposals, if he determines that it better meets the overall objectives of PWEDA, as amended.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Form ED-900A has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with federalism implications as that term is defined in Executive Order 13132.

Administrative Procedure Act/Regulatory Flexibility Act

Prior notice and an opportunity for public comments are not required by the Administrative Procedure Act or any other law for rules concerning grants, benefits and contracts (5 U.S.C. 553(a)(2)). Because notice and opportunity for comment are not required pursuant to 5 U.S.C. 553 or any other law, the analytical requirements of the Regulatory Flexibility Act (5 u.S.C. 601 et seq.) are inapplicable. Therefore, a regulatory flexibility analysis has not been prepared.

Dated: December 21, 2004.
David A. Sampson,
Assistant Secretary for Economic Development.

[FR Doc. 04-28376 Filed 12-27-04; 8:45 am]

BILLING CODE 3510-24-M